DEPARTMENT OF HOMELAND SECURITY

Federal Emergency Management Agency

[Docket ID FEMA-2015-0001]

Final Flood Hazard Determinations

AGENCY: Federal Emergency Management Agency, DHS.

ACTION: Final Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The effective date of December 16, 2015, which has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at www.msc.fema.gov by the effective date indicated above.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at www.msc.fema.gov.

The flood hazard determinations are made final in the watersheds and/or communities listed in the table below.

(Catalog of Federal Domestic Assistance No. 97.022, “Flood Insurance.”)

Dated: October 8, 2015.
Roy E. Wright,
Deputy Associate Administrator for Insurance and Mitigation, Department of Homeland Security, Federal Emergency Management Agency.

I. Watershed—Studies
Community | Community map repository address
Lower Susquehanna Watershed
York County, Pennsylvania (All Jurisdictions)
Docket No.: FEMA-B-1419
Borough of Cross Roads | Cross Roads Borough Secretary's Office, 14771 Cross Mill Road, Felton, PA 17322.
Borough of Delta | Borough Office, 101 College Avenue, Delta, PA 17314.
Borough of Dillsburg | Municipal Building, 151 South Baltimore Street, Dillsburg, PA 17019.
Borough of Dover | Borough Hall, 46 Butter Road, Dover, PA 17315.
Borough of Fawn Grove | Citizens Volunteer Fire Company, 171 South Market Street, Fawn Grove, PA 17321.
Borough of Felton | Borough Office, 88 Main Street, Felton, PA 17322.
Borough of Glen Rock | Borough Building, 1 Manchester Street, Glen Rock, PA 17327.
Borough of Goldsboro | Goldsboro Municipal Building, 53 North York Street, Etters, PA 17319.
Borough of Hallam | Borough Building, 250 West Beaver Street, Hallam, PA 17406.
Borough of Hanover | Borough Office, 44 Frederick Street, Hanover, PA 17331.
Borough of Jacobus | Borough Office, 126 North Cherry Lane, Jacobus, PA 17407.
Borough of Jefferson | Jefferson Borough Office, 48 Baltimore Street, Codorus, PA 17311.
Borough of Lewisberry | Borough Community Center, 308 Market Street, Lewisberry, PA 17339.
Borough of Manchester | Borough Hall, 225 South Main Street, Manchester, PA 17345.
Borough of Mount Wolf | Borough Office, 345 Chestnut Street, Mount Wolf, PA 17347.
Borough of New Freedom | Borough Office, 49 East High Street, New Freedom, PA 17349.
Borough of North York | North York Municipal Building, 350 East Sixth Avenue, York, PA 17404.
Borough of Railroad | Borough Office, 2 East Main Street, Railroad, PA 17355.
Borough of Seven Valleys | Borough Office, 9 Maple Street, Seven Valleys, PA 17360.
Borough of Spring Grove | Borough Office, 1 Campus Avenue, Spring Grove, PA 17362.
Borough of Wellsville | Borough Office, 299 Main Street, Wellsville, PA 17365.
Borough of Windsor | Borough Building, 2 East Main Street, Windsor, PA 17366.
Borough of Wrightsville | Municipal Office, 601 Water Street, Wrightsville, PA 17368.
Borough of Yoe | Borough Building, 150 North Maple Street, Yoe, PA 17313.
Borough of York Haven | Borough Hall, 2 Pennsylvania Avenue, Storage Room, York Haven, PA 17370.
City of York | Department of Public Works, 101 South George Street, York, PA 17401.
Township of Carroll | Carroll Township Municipal Building, 555 Chestnut Grove Road, Dillsburg, PA 17019.
Township of Chanceford | Chanceford Community Building, 51 Muddy Creek Forks Road, Brogue, PA 17309.
Township of Codorus | Codorus Township Building, 4631 Shaffers Church Road, Glenville, PA 17329.
Township of Conewago | Conewago Township Secretary's Office, 490 Copenhaffer Road, York, PA 17404.
Township of Dover | Township Building, 2480 West Canal Road, Dover, PA 17315.
Township of East Hopewell | East Hopewell Township Office, 8916 Hickory Road, Felton, PA 17322.
Township of East Manchester | East Manchester Township Office, 5080 North Sherman Street Extension, Mount Wolf, PA 17347.
Township of Fairview | Fairview Township Building, 599 Lewisberry Road, New Cumberland, PA 17070.
Township of Fawn | Fawn Township Office, 245 Alum Rock Road, New Park, PA 17352.
Township of Franklin | Franklin Township Building, 150 Century Lane, Dillsburg, PA 17019.
Township of Heidelberg | Heidelberg Township Building, 6424 York Road, Spring Grove, PA 17362.
Township of Hellam | Hellam Township Office, 44 Walnut Springs Road, York, PA 17406.
Township of Hopewell | Hopewell Township Building, 3336 Bridgeview Road, Stewartstown, PA 17363.
Township of Jackson | Jackson Township Municipal Building, 439 Roth's Church Road, Spring Grove, PA 17362.
Township of Lower Chanceford.. | Lower Chanceford Township Building, 4120 Delta Road, Airville, PA 17302.
Township of Lower Windsor | Lower Windsor Township Building, 2425 Craley Road, Wrightsville, PA 17368.
Township of Manchester | Manchester Township Building, 3200 Farmtrail Road, York, PA 17406.
Township of Manheim | Manheim Township Building, 5191 Wool Mill Road, Glenville, PA 17329.
Township of Monaghan | Monaghan Township Municipal Office, 202 South York Road, Dillsburg, PA 17019.
Township of Newberry | Newberry Township Building, 1915 Old Trail Road, Etters, PA 17319.
Township of North Codorus | North Codorus Township Municipal Building, 1986 Stoverstown Road, Spring Grove, PA 17362.
Township of North Hopewell | North Hopewell Township Building, 13081 High Point Road, Felton, PA 17322.
Township of Paradise | Paradise Township Municipal Building, 82 Beaver Creek Road, Abbottstown, PA 17301.
Township of Peach Bottom | Peach Bottom Township Office, 529 Broad Street Extension, Delta, PA 17314.
Township of Penn | Penn Township Municipal Building, 20 Wayne Avenue, Hanover, PA 17331.
Township of Shrewsbury | Shrewsbury Township Municipal Building, 11505 Susquehanna Trail South, Glen Rock, PA 17327.
Township of Spring Garden | Spring Garden Township Zoning Office, 558 South Ogontz Street, York, PA 17403.
Township of Springettsbury | Springettsbury Township Community Development Department, 1501 Mount Zion Road, York, PA 17402.
Township of Springfield | Springfield Township Administrative Building, 9211 Susquehanna Trail South, Seven Valleys, PA 17360.
Township of Warrington | Warrington Township Municipal Building, 3345 Rosstown Road, Wellsville, PA 17365.
Township of Washington | Washington Township Municipal Building, 14 Creek Road, East Berlin, PA 17316.
Township of West Manchester | West Manchester Township Building, 380 East Berlin Road, York, PA 17408.
Township of West Manheim | West Manheim Township Office, 2412 Baltimore Pike, Hanover, PA 17331.
Township of Windsor | Windsor Township Municipal Office, 1480 Windsor Road, Red Lion, PA 17356.
Township of York | York Township Complex, Engineering Department, 190 Oak Road, Dallastown, PA 17313.

II. Non-watershed-based studies:
Community | Community Map Repository Address
City of Cordova, Alaska, Valdez-Cordova Census Area
Docket No.: FEMA-B-1436
City of Cordova | City Hall, 602 Railroad Avenue, Cordova, AK 99574
St. Joseph County, Indiana, and Incorporated Areas
Docket No.: FEMA-B-1436
City of Mishawaka | City Hall, 600 East Third Street, Mishawaka, IN 46544.
Town of Osceola | Town Hall, 850 Lincoln Way West, Osceola, IN 46561.
Unincorporated Areas of St. Joseph County | St. Joseph County City Building, 227 West Jefferson Boulevard, South Bend, IN 46601.
Anoka County, Minnesota, and Incorporated Areas
Docket No.: FEMA-B-1348
City of Andover | City Hall, 1685 Crosstown Boulevard Northwest, Andover, MN 55304.
City of Anoka | City Hall, 2015 First Avenue North, Anoka, MN 55303.
City of Bethel | City Hall, 23820 Dewey Street, Bethel, MN 55005.
City of Blaine | City Hall Offices, 10801 Town Square Drive Northeast, Blaine, MN 55449.
City of Centerville | City Hall, 1880 Main Street, Centerville, MN 55038.
City of Circle Pines | City Hall, 200 Civic Heights Circle, Circle Pines, MN 55014.
City of Columbia Heights | City Hall, 590 40th Avenue Northeast, Columbia Heights, MN 55421.
City of Columbus | City Hall, 16319 Kettle River Boulevard, Columbus, MN 55025.
City of Coon Rapids | City Hall, 11155 Robinson Drive, Coon Rapids, MN 55433.
City of East Bethel | City Hall, 2241 221st Avenue Northeast, East Bethel, MN 55011.
City of Fridley | City Hall, 6431 University Avenue Northeast, Fridley, MN 55432.
City of Ham Lake | City Hall, 15544 Central Avenue Northeast, Ham Lake, MN 55304.
City of Lexington | City Hall, 9180 Lexington Avenue, Lexington, MN 55014.
City of Lino Lakes | City Hall, 600 Town Center Parkway, Lino Lakes, MN 55014.
City of Nowthen | City Offices, 8188 199th Avenue Northwest, Elk River, MN 55330.
City of Oak Grove | City Hall, 19900 Nightingale Street Northwest, Cedar, MN 55011.
City of Ramsey | Municipal Center, 7550 Sunwood Drive Northwest, Ramsey, MN 55303.
City of Spring Lake Park | City Hall, 1301 81st Avenue Northeast, Spring Lake Park, MN 55432.
City of St. Francis | City Hall, 23340 Cree Street Northwest, St. Francis, MN 55070.
Unincorporated Areas of Anoka County | Government Center, 2100 Third Avenue, 7th Floor, Anoka, MN 55303.
James City County, Virginia, and Incorporated Areas
Docket No.: FEMA-B-1431
City of Williamsburg (Independent City) | Planning Department, 401 Lafayette Street, Williamsburg, VA 23185.
Unincorporated Areas of James City County | James City County Development Management, 101-A Mounts Bay Road, Williamsburg, VA 23185.
Cowlitz County, Washington, and Incorporated Areas
Docket No.: FEMA-B-1239
City of Castle Rock | City Hall, 141 A Street Southwest, Castle Rock, WA 98611
City of Kalama | City Hall, 320 North 1st Street, Kalama, WA 98625
City of Kelso | City Hall, 203 South Pacific Avenue, Kelso, WA 98626
City of Longview | City Hall, 1525 Broadway Street, Longview, WA 98632
City of Woodland | City Hall, 230 Davidson Avenue, Woodland, WA 98674
Unincorporated Areas of Cowlitz County | Cowltiz County Administration Building, 207 4th Avenue North Kelso, WA 98626
Iowa County, Wisconsin, and Incorporated Areas
Docket No.: FEMA-B-1426
City of Dodgeville | City Hall, 100 East Fountain Street, Dodgeville, WI 53533.
City of Mineral Point | City Hall, 137 High Street, Suite 1, Mineral Point, WI 53565.
Unincorporated Areas of Iowa County | Iowa County Zoning Office, 222 North Iowa Street, Dodgeville, WI 53533.
Village of Avoca | Village Hall, 401 Wisconsin Street, Avoca, WI 53506.
Village of Barneveld | Village Hall, 403 East County Highway ID, Barneveld, WI 53507.
Village of Blanchardville | Village Hall, 208 Mason Street, Blanchardville, WI 53516.
Village of Cobb | Village Hall, 501 Benson Street, Cobb, WI 53526.
Village of Hollandale | Village Hall, 200 5th Avenue, Hollandale, WI 53544.
Village of Linden | Village Hall, 444 Jefferson Avenue, Linden, WI 53553.
Village of Ridgeway | Village Hall, 113 Dougherty Court, Ridgeway, WI 53582.

[FR Doc. 2015-27415 Filed 10-27-15; 8:45 am]

BILLING CODE 9110-12-P